DEPARTMENT OF COMMERCE

International Trade Administration

[A-570-979]

Crystalline Silicon Photovoltaic Cells, Whether or Not Assembled Into Modules, From the People's Republic of China: Initiation of Antidumping Duty New Shipper Review

AGENCY: Enforcement and Compliance, International Trade Administration, Department of Commerce.

ACTION: Notice.

SUMMARY: The request described below for a new shipper review of the antidumping duty (AD) order on crystalline silicon photovoltaic cells, whether or not assembled into modules, (“solar cells”) from the People's Republic of China (“PRC”) meets the statutory and regulatory requirements for initiation. The period of review (“POR”) for the new shipper review is December 1, 2014 through November 30, 2015.

DATES: Effective Date: February 3, 2016.

FOR FURTHER INFORMATION CONTACT: Erin Kearney, AD/CVD Operations, Office IV, Enforcement and Compliance, International Trade Administration, U.S. Department of Commerce, 14th Street and Constitution Avenue NW., Washington, DC 20230; telephone: (202) 482-0167.

SUPPLEMENTARY INFORMATION:

Background

On December 7, 2012, the Department of Commerce (“Department”) published the AD order on solar cells from the PRC.¹ On December 30, 2015, pursuant to section 751(a)(2)(B)(i) of the Tariff Act of 1930, as amended (the “Act”), and 19 CFR 351.214(c), the Department received a timely request for a new shipper review from Anji DaSol Solar Energy Science & Technology Co., Ltd. (“Anji DaSol”).² On January 19, 2016, the Department received entry data from U.S. Customs and Border Protection (“CBP”) related to Anji DaSol's request for a new shipper review, and on January 21, 2016, we requested comments on the entry data from interested parties.³ Because the Department has certain concerns with the CBP entry data, on January 21, 2016, we also issued a questionnaire to Anji DaSol in order to seek additional information with respect the data.⁴ The Department intends to address these, and any remaining issues, after initiation of this NSR.⁵ We intend to request entry documents from CBP in order to confirm certain information reported by Anji DaSol. The continuation of the new shipper review will be contingent upon confirmation of the information reported in the review request.

¹ See Crystalline Silicon Photovoltaic Cells, Whether or Not Assembled Into Modules, From the People's Republic of China: Amended Final Determination of Sales at Less Than Fair Value, and Antidumping Duty Order, 77 FR 73018 (December 7, 2012).

² See Letter from Anji DaSol to the Secretary of Commerce “Crystalline Silicon Photovoltaic Cells, Whether or Not Assembled Into Modules, From the People's Republic of China: Request for New Shipper Review,” dated December 30, 2015 (“NSR Request”).

³ See Letter to All Interested Parties “Request for a New Shipper Review of Crystalline Silicon Photovoltaic Cells, Whether or Not Assembled Into Modules, from the People's Republic of China 12/01/2014-11/30/15: Anji DaSol Solar Energy Science & Technology Co., Ltd.,” dated January 21, 2016 (“CBP Data”).

⁴ Due to the business proprietary nature of the CBP data, see Initiation Checklist at Part I, question 15 for further information.

⁵ See Letter to Anji DaSol, “Request for New Shipper Review of the Antidumping Duty Order on Crystalline Silicon Photovoltaic Cells, Whether or Not Assembled Into Modules, from the People's Republic of China,” dated January 21, 2016.

Anji DaSol stated that it is the producer and exporter of the subject merchandise upon which its request for a new shipper review is based. Pursuant to section 751(a)(2)(B)(i)(I) of the Act and 19 CFR 351.214(b)(2)(i), Anji DaSol certified that it did not export solar cells to the United States during the period of investigation (“POI”). In addition, pursuant to section 751(a)(2)(B)(i)(II) of the Act and 19 CFR 351.214(b)(2)(iii)(A), Anji DaSol certified that, since the initiation of the investigation, it has never been affiliated with any PRC exporter or producer who exported solar cells to the United States during the POI, including those not individually examined during the investigation. As required by 19 CFR 351.214(b)(2)(iii)(B), Anji DaSol also certified that its export activities were not controlled by the central government of the PRC.⁶

⁶ See NSR Request, at Exhibit 1.

In addition to the certifications described above, pursuant to 19 CFR 351.214(b)(2)(iv), Anji DaSol submitted documentation establishing the following: (1) The date on which the subject merchandise was first entered, or withdrawn from warehouse, for consumption in the United States; (2) the volume of its first shipment; and (3) the date of its first sale to an unaffiliated customer in the United States.⁷

⁷ Id. at Exhibit 2.

The Department conducted a CBP database query and confirmed by examining the results that the sale of subject merchandise that Anji DaSol reported to the Department entered the United States during the POR specified by the Department's regulations.⁸

⁸ See 19 CFR 351.214(g)(1)(i)(A).

Period of Review

Pursuant to 19 CFR 351.214(g)(1)(i)(A), the POR for the new shipper review of Anji DaSol is December 1, 2014, through November 30, 2015.

Initiation of New Shipper Review

Pursuant to section 751(a)(2)(B) of the Act, 19 CFR 351.214(b), and based on the information on the record, the Department finds that Anji DaSol meets the threshold requirements for initiation of a new shipper review of its shipment of solar cells from the PRC.⁹ However, if the information supplied by Anji DaSol is later found to be incorrect or insufficient during the course of this proceeding, the Department may rescind the review or apply facts available pursuant to section 776 of the Act, depending upon the facts on the record.

⁹ See, generally, Memorandum to the File through Abdelali Elouaradia, Director, AD/CVD Operations, Office IV, “Initiation of Antidumping New Shipper Review of Crystalline Silicon Photovoltaic Cells, Whether or Not Assembled Into Modules, from the People's Republic of China: Anji DaSol Solar Energy Science & Technology Co., Ltd., Initiation Checklist,” dated concurrently with this notice (“Initiation Checklist”).

Pursuant to 19 CFR 351.221(c)(1)(i), the Department will publish the notice of initiation of a new shipper review no later than the last day of the month following the anniversary or semiannual anniversary month of the order. The Department intends to issue the preliminary results of this new shipper review no later than 180 days from the date of initiation, and the final results of this review no later than 90 days after the date the preliminary results are issued.¹⁰

¹⁰ See section 751(a)(2)(B)(iv) of the Act; 19 CFR 351.214(i).

It is the Department's usual practice, in cases involving non-market economies (“NME”), to require that a company seeking to establish eligibility for an AD rate separate from the NME-wide entity rate provide evidence of de jure and de facto absence of government control over the company's export activities. Accordingly, we will issue a questionnaire to Anji DaSol which will include a section requesting information with regard to its export activities for the purpose of establishing its eligibility for a separate rate. The new shipper review of Anji DaSol will proceed if the response provides sufficient indication that the exporter is not subject to either de jure or de facto government control with respect to its exports of solar cells.

We will instruct CBP to allow, at the option of the importer, the posting, until the completion of the review, of a bond or security in lieu of a cash deposit for certain entries of the subject merchandise from Anji DaSol in accordance with section 751(a)(2)(B)(iii) of the Act and 19 CFR 351.214(e). Because Anji DaSol certified that it exports and produces the subject merchandise that is the subject of this new shipper review, we will instruct CBP to permit the use of a bond only for entries of subject merchandise which Anji DaSol exported and produced.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: January 27, 2016.
James Maeder,
Senior Director Antidumping and Countervailing Duty Operations, Office I.

[FR Doc. 2016-02002 Filed 2-2-16; 8:45 am]

BILLING CODE 3510-DS-P